DEPARTMENT OF ENERGY

10 CFR Parts 960 and 963

[Docket No. RW-RM-99-963]

RIN 1901-AA72

Office of Civilian Radioactive Waste Management; General Guidelines for the Recommendation of Sites for Nuclear Waste Repositories; Yucca Mountain Site Suitability Guidelines; Correction

AGENCY: Office of Civilian Radioactive Waste Management, Department of Energy (DOE).

ACTION: Supplemental notice of proposed rulemaking; Correction.

SUMMARY: On November 30, 1999, DOE published a supplemental notice of proposed rulemaking to amend the policies under the Nuclear Waste Policy Act of 1982 for evaluating the suitability of Yucca Mountain, Nevada, as a site for development of a nuclear waste repository. The deadline for submission of comments, originally set for February 14, 2000, was extended to February 28, 2000 in a notice published on January 14, 2000. In the November 30, 1999 supplemental notice of proposed rulemaking, DOE inadvertently included a mistaken post office box number in the address for submission of comments. Although DOE arranged with the U.S. Postal Service for forwarding of the comments upon receipt, the Postal Service mistakenly returned some of them to the original senders. To remedy this problem, DOE is posting a list of those persons, from whom comments have been received, on the web site given below, and announces that DOE will accept comments that were returned by the U.S. Postal Service as long as they are postmarked and sent to the address stated in the ADDRESSES section no later than 14 days from the date of this notice. This document corrects the address given for sending comments. For a list of persons who have already provided comments to DOE on the proposed rulemaking, visit the following world wide web location: http://www.ymp.gov.

DATES: Written comments must be postmarked by March 20, 2000. DOE requests one copy of the written comments.

ADDRESSES: See the “Correction” section of this document.

FOR FURTHER INFORMATION CONTACT: Dr. William J. Boyle or Dr. Jane Summerson, U.S. Department of Energy, Office of Civilian Radioactive Waste Management, Yucca Mountain Site Characterization Office, P.O. Box 30307, North Las Vegas, Nevada 89036-0307, (800) 967-3477.

Correction

In the Federal Register of November 30, 1999, in proposed rule FR Doc. 99-30668, on page 67054, in the first column, correct the ADDRESSES caption to read as follows:

ADDRESSES: Written comments should be addressed to Dr. WIlliam J. Boyle, U.S. Department of Energy, Yucca Mountain Site Characterization Office, P.O. Box 30307, North Las Vegas, Nevada 89036-0307, or provided by electronic mail to 10CFR963@notes.ymp.gov.

Issued in Washington, D.C. on March 2, 2000.
Ivan Itkin,
Director, Office of Civilian Radioactive Waste Management

[FR Doc. 00-5478 Filed 3-3-00; 8:45 am]

BILLING CODE 6450-01-P